DEPARTMENT OF AGRICULTURE

Rural Telephone Bank

Sunshine Act; Meetings

AGENCY: Rural Telephone Bank, USDA

ACTION: Staff Briefing for the Board of Directors.

TIME AND DATE: 2 p.m., Wednesday, August 3, 2005.

PLACE: Conference Room 104-A, Jamie L. Whitten Federal Building, U.S. Department of Agriculture, 12th & Jefferson Drive, SW., Washington, DC.

STATUS: Open to the Public.

MATTERS TO BE DISCUSSED: 1. Annual retirement of class A stock.

2. Annual class C stock dividend rate.

3. Proposed liquidation of the bank.

4. Administrative and other issues.

ACTION: Board of Directors Meeting.

TIME AND DATE: 9 a.m., Thursday, August 4, 2005.

PLACE: Conference Room 104-A, Jamie L. Whitten Federal Building, U.S. Department of Agriculture, 12th & Jefferson Drive, SW., Washington, DC.

STATUS: Open to the Public.

MATTERS TO BE DISCUSSED: The following matters have been placed on the agenda for the Board of Directors meeting:

1. Call to order.

2. Action on Minutes of the May 5, 2005, board meeting.

3. Secretary's Report.

4. Treasurer's Report.

5. Consideration of resolution to retire class A stock in FY 2005.

6. Consideration of resolution to set annual class C stock dividend rate.

7. Consideration of resolutions related to the liquidation of the bank, including authorizations to wind up the Bank's business, transfer assets, and redeem all outstanding stock. These resolutions include proposed amendments to the Bylaws of the Bank. The amendments would change Article II, Sections 2.3 and 2.4 of the Bylaws to read as follows:

Section 2.3 SHARE CERTIFICATES. (a) All shares of stock of the Bank shall be evidenced by entry on the books of the Bank. All paper stock certificates issued by the Bank are cancelled as of October 1, 2005, and replaced by entry on the books of the Bank. (b) The Bank shall issue stock only upon payment in full of the par value thereof. (c) The Bank shall issue stock evidencing the distribution of patronage refunds as hereinafter provided.

Section 2.4 TRANSFER OF SHARES. Shares in the capital stock of the Bank shall be transferred only on the books of the Bank by authorization from the holder thereof or by the holder's legal representative upon proof of the legal representative's authority filed with the Secretary of the Bank. The entity in whose name shares stand on the books of the Bank shall be deemed to be the owner thereof for all purposes.

8. Adjournment.

CONTACT PERSON FOR MORE INFORMATION: Jonathan Claffey, Acting Assistant Governor, Rural Telephone Bank, (202) 720-9554.

Dated: July 20, 2005.
Curtis Anderson,
Acting Governor, Rural Telephone Bank.

[FR Doc. 05-14640 Filed 7-20-05; 3:30 pm]

BILLING CODE 3410-15-M